DEPARTMENT OF ENERGY

Federal Energy Regulatory Commission

Notice of Commission Staff Attendance

The Federal Energy Regulatory Commission (Commission) hereby gives notice that members of the Commission's staff may attend the following meetings related to the transmission planning activities of the New York Independent System Operator, Inc. (NYISO):

Transmission Planning Advisory Subcommittee and Electric System Planning Working Group Meeting

February 1, 2019, 10:00 a.m.-4:00 p.m. (EST)

The above-referenced meeting will be via web conference and teleconference.

The above-referenced meeting is open to stakeholders.

Further information may be found at: https://www.nyiso.com/tpas?meetingDate=2019-02-01.

Electric System Planning Working Group Meeting

February 11, 2019, 10:00 a.m.-4:00 p.m. (EST)

The above-referenced meeting will be via web conference and teleconference.

The above-referenced meeting is open to stakeholders.

Further information may be found at: https://www.nyiso.com/espwg?meetingDate=2019-02-11.

Business Issues Committee Meeting

February 13, 2019, 10:00 a.m.-4:00 p.m. (EST)

The above-referenced meeting will be via web conference and teleconference.

The above-referenced meeting is open to stakeholders.

Further information may be found at: https://www.nyiso.com/business-issues-committee-bic-?meetingDate=2019-02-13.

Operating Committee Meeting

February 14, 2019, 10:00 a.m.-4:00 p.m. (EST)

The above-referenced meeting will be via web conference and teleconference.

The above-referenced meeting is open to stakeholders.

Further information may be found at: https://www.nyiso.com/operating-committee-oc-?meetingDate=2019-02-14.

Management Committee Meeting

February 27, 2019, 10:00 a.m.-2:00 p.m. (EST)

The above-referenced meeting will be via web conference and teleconference.

The above-referenced meeting is open to stakeholders.

Further information may be found at: https://www.nyiso.com/management-committee-mc-?meetingDate=2019-02-27.

The discussions at the meetings described above may address matters at issue in the following proceedings:

New York Independent System Operator, Inc., Docket No. ER15-2059.

New York Independent System Operator, Inc., Docket No. ER17-2327.

New York Independent System Operator, Inc., Docket No. ER19-528.

For more information, contact James Eason, Office of Energy Market Regulation, Federal Energy Regulatory Commission at (202) 502-8622 or James.Eason@ferc.gov.

Dated: January 24, 2019.
Kimberly D. Bose,
Secretary.

[FR Doc. 2019-00542 Filed 1-31-19; 8:45 am]

BILLING CODE 6717-01-P